NATIONAL ARCHIVES AND RECORDS ADMINISTRATION

36 CFR Part 1253

RIN 3095-AB47

NARA Facility Locations and Hours

AGENCY: National Archives and Records Administration (NARA).

ACTION: Proposed rule.

SUMMARY: NARA proposes to add to its regulations the location of the William J. Clinton Presidential Library in Little Rock, Arkansas, and the location and hours for the regional archives in NARA's Southeast Region (Atlanta) in Morrow, Georgia. This proposed rule will affect the public.

DATES: Submit comments on or before April 8, 2005.

ADDRESSES: NARA invites interested persons to submit comments on this proposed rule. Please include “Attn: 3095-AB47” and your name and mailing address in your comments. Comments may be submitted by any of the following methods:

• Federal eRulemaking Portal: Go to http://www.regulations.gov. Follow the online instructions for submitting comments.

• E-Mail: Send comments to comments@nara.gov. If you do not receive a confirmation that we have received your e-mail message, contact Jennifer Davis Heaps at 301-837-1850.

• Fax: Submit comments by facsimile transmission to 301-837-0319.

• Mail: Send comments to Regulations Comments Desk (NPOL), Room 4100, Policy and Communications Staff, National Archives and Records Administration, 8601 Adelphi Road, College Park, MD 20740-6001.

• Hand Delivery or Courier: Deliver comments to 8601 Adelphi Road, College Park, MD.

FOR FURTHER INFORMATION CONTACT: Jennifer Davis Heaps at 301-837-1801.

SUPPLEMENTARY INFORMATION: The William J. Clinton Presidential Library opened to the public on November 19, 2004. Accordingly, NARA updates the list of Presidential libraries to include contact information for the new library. As for other Presidential libraries NARA operates, listed at 36 CFR part 1253, the hours for the Clinton Library are 9 a.m. to 5 p.m., Monday through Friday.

In addition, the regional archives in NARA's Southeast Region (Atlanta) is moving from East Point, Georgia, and will open at its new location adjacent to the Georgia Archives in Morrow, Georgia. The regional archives' microfilm reading room is scheduled to open to the public on March 1, 2005, and the textual research room and the rest of the facility on April 1, 2005. The hours for the regional archives in NARA's Southeast Region (Atlanta) are designated Tuesday through Saturday to conform to the hours of the Georgia Archives.

This proposed rule is not a significant regulatory action for the purposes of Executive Order 12866 and has not been reviewed by the Office of Management and Budget (OMB). As required by the Regulatory Flexibility Act, it is hereby certified that this proposed rule will not have a significant impact on a substantial number of small entities because this rule applies to individual researchers. This proposed rule does not have any federalism implications.

List of Subjects in 36 CFR Part 1253

Archives and records.

For the reasons set forth in the preamble, NARA proposes to amend part 1253 of title 36, Code of Federal Regulations, as follows:

PART 1253—LOCATIONS OF RECORDS AND HOURS OF USE

1. The authority citation for part 1253 continues to read as follows:

Authority: 44 U.S.C. 2104(a).

2. Amend § 1253.3 by adding paragraph (k) to read as follows:

§ 1253.3 Presidential Libraries.

* * * * *

(k) William J. Clinton Library is located at 1200 President Clinton Avenue, Little Rock, AR 72201. The phone number is 501-374-4242 and the fax number is 501-244-2883. The e-mail address is clinton.library@nara.gov.

3. Amend § 1253.7 by revising paragraph (e) to read as follows:

§ 1253.7 Regional Archives.

* * * * *

(e) NARA—Southeast Region (Atlanta) is located at 5780 Jonesboro Road, Morrow, GA 30260. The hours are 8:30 a.m. to 5 p.m., Tuesday through Saturday. The telephone number is 404-968-2500.

* * * * *

Dated: February 2, 2005.
John W. Carlin,
Archivist of the United States.

[FR Doc. 05-2256 Filed 2-4-05; 8:45 am]

BILLING CODE 7515-01-P